DEPARTMENT OF ENERGY

Federal Energy Regulatory Commission

[Docket No. EL02-111-008]

Midwest Independent Transmission System Operator, Inc.; Notice of Application

October 23, 2003.

Take notice that on October 17, 2003, pursuant to the Commission's October 14, 2003 Order in Docket No. EL02-111-000, the GridAmerica Companies and the Midwest Independent Transmission System Operator, Inc. (Midwest ISO) submitted for filing revised tariff sheets reflecting revisions to the effective date component of the previously proposed revisions to its Tariff filed on August 22, 2003 to eliminate certain of the inter-RTO Regional Through and Out Rates.

The Midwest ISO has also requested waiver of the service requirements set forth in 18 CFR 385.2010. The Midwest ISO states that it has electronically served a copy of this filing, with attachments, upon all Midwest ISO Members, Member representatives of Transmission Owners and Non-Transmission Owners, the Midwest ISO Advisory Committee participants, as well as all state commissions within the region. The Midwest ISO also states that the filing has been electronically posted on the Midwest ISO's Website at http://www.midwestiso.org under the heading “Filings to FERC” for other interested parties in this matter. The Midwest ISO will provide hard copies to any interested parties upon request.

Any person desiring to intervene or to protest this filing should file with the Federal Energy Regulatory Commission, 888 First Street NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's web site at http://www.ferc.gov, using the eLibrary (FERRIS) link. Enter the docket number excluding the last three digits in the docket number field to access the document. For assistance, please contact FERC Online Support at FERCOnlineSupport@ferc.gov or toll-free at (866) 208-3676, or for TTY, contact (202) 502-8659. Protests and interventions may be filed electronically via the Internet in lieu of paper; see 18 CFR 385.2001(a)(1)(iii) and the instructions on the Commission's Web site under the “e-Filing” link. The Commission strongly encourages electronic filings.

Comment Date: November 7, 2003.

Linda Mitry,
Acting Secretary.

[FR Doc. E3-00651 Filed 12-24-03; 8:45 am]

BILLING CODE 6717-01-P